DEPARTMENT OF HOMELAND SECURITY

Federal Emergency Management Agency

[FEMA-1609-DR]

Florida; Amendment No. 7 to Notice of a Major Disaster Declaration

AGENCY: Federal Emergency Management Agency, DHS.

ACTION: Notice.

SUMMARY: This notice amends the notice of a major disaster for the State of Florida (FEMA-1609-DR), dated October 24, 2005, and related determinations.

DATES: Effective Date: May 25, 2007.

FOR FURTHER INFORMATION CONTACT: Peggy Miller, Recovery Division, Federal Emergency Management Agency, Washington, DC 20472, (202) 646-2705.

SUPPLEMENTARY INFORMATION: Notice is hereby given that, pursuant to the U.S. Troop Readiness, Veterans' Care, Katrina Recovery, and Iraq Accountability Appropriations Act, 2007, Public Law 110-28, FEMA is amending the cost-sharing arrangements concerning Federal funds provided under the authority of the Robert T. Stafford Disaster Relief and Emergency Assistance Act, 42 U.S.C. 5170b, 5172, 5173 and 5174, for a major disaster declared on October 24, 2005 for the State of Florida due to damage resulting from Hurricane Wilma. The Florida major disaster declaration is amended as follows:

Federal funds for all categories of Public Assistance, including direct Federal assistance, for which a “request for public assistance form” has been submitted as of May 25, 2007 and Other Needs Assistance (Section 408) applied for before May 25, 2007 are authorized at 100 percent of total eligible costs.

The Robert T. Stafford Disaster Relief and Emergency Assistance Act specifically prohibits a similar adjustment for funds provided to States for the Hazard Mitigation Grant Program (Section 404). These funds will continue to be reimbursed at 75 percent of total eligible costs.

This cost share is effective as of the date of the President's major disaster declaration.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program—Other Needs; 97.036, Public Assistance Grants; 97.039, Hazard Mitigation Grant Program.)

R. David Paulison,
Administrator, Federal Emergency Management Agency.

[FR Doc. E7-12203 Filed 6-22-07; 8:45 am]

BILLING CODE 9110-10-P